DEPARTMENT OF AGRICULTURE

Forest Service

Notice of New Fee Site; Federal Lands Recreation Enhancement Act (Title VIII, Pub. L. 108-447)

AGENCY: Ochoco National Forest, USDA Forest Service.

ACTION: Notice of New Fee Site.

SUMMARY: The Ochoco National Forest is planning to charge an $8 fee for family overnight campsites at Skull Hollow Campground with additional vehicle/vehicles being $4.00. These sites have been available for non-fee recreation use prior to this date. Camping in other campgrounds on the Ochoco National Forest has shown that people appreciate and enjoy the availability of campgrounds. Funds from the fee site will be used for the continued operation and maintenance of Skull Hollow.

DATES: Skull Hollow will become a fee site for recreation camping October, 2008.

ADDRESSES: Forest Supervisor, Ochoco National Forest, 3160 3rd St, Prineville, OR 97754.

FOR FURTHER INFORMATION CONTACT: Cathy Lund, Recreation Staff, 541-416-6451.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Ochoco National Forest currently has two other campgrounds on the Crooked River National Grassland District. These campgrounds are often occupied throughout their open season. A business analysis of Skull Hollow has shown that people desire having this sort of recreation experience on the Ochoco National Forest. A market analysis indicates that the $8/per night fee and $4.00 additional vehicle is both reasonable and acceptable for this sort of campground.

People wanting to camp at Skull Hollow will need to do so through a first come first serve. This campground is not on the National Recreation Reservation Service, at http://www.reserveusa.com.

Dated: March 25, 2008.
Jeff Walter,
Ochoco National Forest Supervisor.

[FR Doc. E8-6902 Filed 4-3-08; 8:45 am]

BILLING CODE 3410-11-M